DEPARTMENT OF LABOR

Employment and Training Administration

[TA-W-51,207]

General Electric Co., Industrial Systems, Mebane, North Carolina; Notice of Negative Determination Regarding Application for Reconsideration

By application of April 30, 2003, a petitioner requested administrative reconsideration of the Department's negative determination regarding eligibility to apply for Trade Adjustment Assistance (TAA), applicable to workers and former workers of the subject firm. The denial notice was signed on March 26, 2003, and published in the Federal Register on April 7, 2003 (68 FR 16834).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The petition for the workers of General Electric Company, Industrial Systems, Mebane, North Carolina was denied because the “contributed importantly” group eligibility requirement of section 222(3) of the Trade Act of 1974, as amended, was not met. The “contributed importantly” test is generally demonstrated through a survey of customers of the workers' firm. The survey revealed that none of the respondents increased their purchases of motor control centers, limit amps, switchboards and power panels. The company did not import motor control centers, limit amps, switchboards and power panels in the relevant period, nor did it shift production to a foreign source in the relevant period.

The petitioner asserts that the company official who filled out the data request for the initial investigation provided incorrect answers to the Department of Labor. Specifically, it was alleged that the company was moving “half a production line” to another company and that the company is importing products like or directly competitive with those produced at the subject facility.

Two company officials were contacted in regard to these allegations. Further investigation revealed that the company will be shifting a part of its motor control centers in the summer of 2003; however, no shift occurred in the relevant period. In addition, it was confirmed that the company does not import any products that are like or directly competitive with those produced at the subject firm.

Conclusion

After review of the application and investigative findings, I conclude that there has been no error or misinterpretation of the law or of the facts which would justify reconsideration of the Department of Labor's prior decision. Accordingly, the application is denied.

Signed at Washington, DC, this 6th day of June, 2003.
Elliott S. Kushner,
Certifying Officer, Division of Trade Adjustment Assistance.

[FR Doc. 03-15622 Filed 6-19-03; 8:45 am]

BILLING CODE 4510-30-M